DEPARTMENT OF TRANSPORTATION

Federal Railroad Administration

49 CFR Part 236

[Docket No. FRA-2011-0028, Notice No. 2]

RIN 2130-AC27

Positive Train Control Systems

AGENCY: Federal Railroad Administration (FRA), Department of Transportation (DOT).

ACTION: Notice of public hearing and extension of comment period.

SUMMARY: On August 24, 2011, FRA published a notice of proposed rulemaking that would remove regulatory provisions requiring railroads to either conduct further analyses or meet certain risk-based criteria in order to avoid positive train control (PTC) system implementation on track segments that do not transport poison- or toxic-by-inhalation (PIH) hazardous materials traffic and are not used for intercity or commuter rail passenger transportation as of December 31, 2015. FRA is announcing a public hearing to provide interested persons an opportunity to provide comments on the proposal and to discuss further development of the regulation. The Rail Safety Improvement Act of 2008 requires the implementation of PTC systems. FRA is also extending the comment period for this proceeding to allow time for interested parties to submit comments after the public hearing.

DATES: A public hearing will be held on November 10, 2011, in Washington, DC and will commence at 9 a.m. The comment period in this proceeding is extended to November 25, 2011.

ADDRESSES: Public Hearing. The public hearing will be held at the Washington Plaza Hotel, 10 Thomas Circle, NW., Washington, DC 20005.

Attendance: Any persons wishing to make a statement at the hearing should notify Michelle Silva in FRA's Office of Chief Counsel by telephone, e-mail, or in writing, at least five business days before the date of the hearing. Ms. Silva's contact information is as follows: FRA, Office of Chief Counsel, Mail Stop 10, 1200 New Jersey Avenue, SE., Washington, DC 20590; telephone: 202-493-6030; e-mail: michelle.silva@dot.gov. For information on facilities or services for persons with disabilities or to request special assistance at the meeting, please contact by telephone or e-mail as soon as possible, Larry Woolverton at 202-493-6212 or larry.woolverton@dot.gov.

FOR FURTHER INFORMATION CONTACT: Thomas McFarlin, Office of Safety Assurance and Compliance, Staff Director, Signal & Train Control Division, Federal Railroad Administration, Mail Stop 25, West Building 3rd Floor West, Room W35-332, 1200 New Jersey Avenue, SE., Washington, DC 20590 (telephone: 202-493-6203); or Jason Schlosberg, Trial Attorney, Office of Chief Counsel, RCC-10, Mail Stop 10, West Building 3rd Floor, Room W31-207, 1200 New Jersey Avenue, SE., Washington, DC 20590 (telephone: 202-493-6032).

SUPPLEMENTARY INFORMATION: The purpose of the hearing is to receive oral comments in response to a notice of proposed rulemaking (NPRM) proposing amendment of the regulations requiring certain railroads to implement PTC systems. See 76 FR 52918 (Aug. 24, 2011). Interested parties are invited to present oral statements and to proffer information and views at the hearing. The hearing will be informal and will be conducted by a representative designated by FRA in accordance with FRA's Rules of Practice (49 CFR 211.25). The hearing will be a non-adversarial proceeding; therefore, there will be no cross examination of persons presenting statements or proffering evidence. An FRA representative will make an opening statement outlining the scope of the hearing. After all initial statements have been completed; those persons wishing to make a brief rebuttal will be given the opportunity to do so in the same order in which the initial statements were made. Additional procedures, as necessary for the conduct of the hearing, will be announced at the hearing. A transcript of the discussions will be made part of the public docket in this proceeding.

Public Participation Procedures. Any person wishing to participate in the public hearing should notify FRA by mail or at the address or fax number provided in the Attendance section of this notice at least five working days prior to the date of the hearing and submit three copies of the oral statement that he or she intends to make at the proceeding. The notification should identify the party the person represents, the particular subject(s) the person plans to address, and the time requested. The notification should also provide the Docket Clerk with the participant's mailing address and other contact information. FRA reserves the right to limit participation in the hearing of persons who fail to provide such notification. FRA reserves the right to limit the duration of presentations if necessary to afford all persons with the opportunity to speak.

Extension of Comment Period. A public hearing has been scheduled after the close of the comment period specifically provided for in the notice of proposed rulemaking. To accommodate the public hearing and to afford interested parties the opportunity to submit comments in response to views or information provided at the public hearing, FRA is extending the comment period in this proceeding to November 25, 2011.

Issued in Washington, DC, on October 11, 2011.
Jo Strang,
Associate Administrator for Railroad Safety/Chief Safety Officer, Federal Railroad Administration.

[FR Doc. 2011-26594 Filed 10-13-11; 8:45 am]

BILLING CODE 4910-06-P